DEPARTMENT OF THE INTERIOR

Bureau of Land Management

[LLCOF07000.L10200000.DS0000.19X]

Notice of Availability of the Draft Environmental Impact Statement for Domestic Sheep Grazing Permit Renewals, Gunnison Field Office, Colorado

AGENCY: Bureau of Land Management, Interior.

ACTION: Notice of availability.

SUMMARY: In accordance with the National Environmental Policy Act of 1969, as amended, and the Federal Land Policy and Management Act of 1976, as amended, the Bureau of Land Management (BLM) has prepared a Draft Environmental Impact Statement (EIS) for Domestic Sheep Grazing Permit Renewals in the Gunnison Field Office and by this notice is announcing the opening of the comment period.

DATES: To ensure comments will be considered, the BLM must receive written comments on the Domestic Sheep Grazing Permit Renewals Draft EIS within 45 days following the date the Environmental Protection Agency publishes its Notice of Availability in the Federal Register. The BLM will announce future meetings or hearings and any other public involvement activities at least 15 days in advance through public notices, media releases, and/or mailings.

ADDRESSES: Comments related to the Draft EIS for Domestic Sheep Grazing Permit Renewals must be submitted by the following methods:

• Electronic comments must be submitted through the BLM's ePlanning website at https://go.usa.gov/xQTyQ.

• Hard copy comments must be submitted via mail or hand-delivered to the Gunnison Field Office, 210 West Spencer, Gunnison, CO 81230.

A copy of the Draft EIS is available at the Gunnison Field Office at the address above or on the RMP ePlanning website at https://go.usa.gov/xQTyQ. Click the Documents link on the left side of the screen to find the electronic version of the document.

FOR FURTHER INFORMATION CONTACT: Kristi Murphy, Outdoor Recreation Planner, telephone: 970-642-4955; 210 West Spencer, Gunnison, CO 81230; email: kmurphy@blm.gov. Persons who use a telecommunications device for the deaf (TDD) may call the Federal Relay Service (FRS) at 1-800-877-8339 to contact Ms. Murphy during normal business hours. The FRS is available 24 hours a day, 7 days a week, to leave a message or question. You will receive a reply during normal business hours.

SUPPLEMENTARY INFORMATION: The BLM Gunnison Field office is proposing to renew the permits on nine domestic sheep grazing allotments, totaling 65,710 acres in Gunnison, Hinsdale and Ouray counties in Colorado.

The BLM published a Notice of Intent initiating public scoping in 2015 to identify issues through public participation and collaboration with partners. Initial scoping with internal staff, cooperating agencies, and the public identified the risk of contact and disease transmission between domestic sheep and Rocky Mountain bighorn sheep as the primary issue. Additional issues identified during scoping include potential impacts to threatened and endangered species, local and regional economics, cultural resources, Native American religious concerns, and public land health.

The Draft EIS includes alternatives that respond to the purpose and need, reduce the risk of contact and disease transmission, make progress in achieving land health standards, meet objectives of the Canada Lynx Conservation Assessment and Strategy, and meet the habitat and management guidelines of the Candidate Conservation Agreement for Gunnison Sage-Grouse.

Alternatives analyzed in the EIS include the Proposed Action generated by the permittee applications. This alternative would provide grazing on nine allotments. Alternative B is the no action alternative and would continue current management. Alternative C emphasizes a reduction in the risk of contact between domestic sheep/goats and Rocky Mountain bighorn sheep by not authorizing domestic sheep/goat grazing in pastures that overlap with Rocky Mountain bighorn sheep's summer range. Alternative D emphasizes reduction of risk by not authorizing domestic sheep/goat grazing in the overall range of Rocky Mountain bighorn sheep. Alternative E is the No Grazing alternative. The BLM completed a risk of contact model for each of the action alternatives to aid in analyzing the potential levels of sheep interaction.

Please note that public comments and information submitted, including names, street addresses, and email addresses of persons who submit comments, will be available for public review and disclosure at the above address during regular business hours (8 a.m. to 4:30 p.m.), Monday through Friday, except holidays.

Before including your address, phone number, email address, or other personal identifying information in your comment, you should be aware that your entire comment—including your personal identifying information—may be made publicly available at any time. While you can ask us in your comment to withhold your personal identifying information from public review, we cannot guarantee that we will be able to do so.

Authority: 40 CFR 1506.6, 40 CFR 1506.10.

Jamie E. Connell,
BLM Colorado State Director.

[FR Doc. 2019-13853 Filed 6-27-19; 8:45 am]

BILLING CODE 4310-JB-P